DEPARTMENT OF THE INTERIOR

National Park Service

[NPS-WASO-NRNHL-18852; PPWOCRADI0, PCU00RP14.R50000]

National Register of Historic Places; Notification of Pending Nominations and Related Actions

Nominations for the following properties being considered for listing or related actions in the National Register were received by the National Park Service before July 11, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by August 19, 2015. Before including your address, phone number, email address, or other personal identifying information in your comment, you should be aware that your entire comment—including your personal identifying information—may be made publicly available at any time. While you can ask us in your comment to withhold your personal identifying information from public review, we cannot guarantee that we will be able to do so.

Dated: July 17, 2015.
Roger Reed,
Acting Chief, National Register of Historic Places/National Historic Landmarks Program.

ARKANSAS

Pulaski County

MacArthur Park Historic District (Boundary Increase and Additional Documentation), Roughly bounded by Ferry, McGowan, Cumberland & Scott, E. 15th St., E. Capitol Ave., Little Rock, 15000536

MISSOURI

St. Louis County

Claverach Park, Roughly bounded by Broadview, Claverach, Crestwood, Harcourt, Hillvale & Ridgemoor Drs., Clayton Rd., Wydown Blvd., Clayton, 15000537

NEW YORK

Monroe County

Park Avenue and State Street Historic District, 15-121 Park Ave., 15-118 State, 36-54 South, 6 & 12 High & 14 & 20 Spring Sts., Brockport, 15000538

Orleans County

Holley Village Historic District, 1 Village Sq., 3-35 Frisbe Terrace, Public Sq., 32-34 Albion, 1-13 S. Main, 1 Wright, 2 White, 1 & 4-18 Thomas Sts., Holley, 15000539

Richmond County

Sylvan Grove Cemetery, Victory Blvd. at Glen St., Staten Island, 15000540

NORTH CAROLINA

Dare County

LIGHT VESSEL 71 (shipwreck), Address Restricted, Buxton, 15000541

TENNESSEE

Knox County

Gay Street Commercial Historic District (Boundary Increase and Additional Documentation), 626 S. Gay St., Knoxville, 15000542

TEXAS

Travis County

All Saints' Chapel, 209 W. 27th St., Austin, 15000543

Simpson Memorial Methodist Church, (East Austin MRA) 1701 E. 12th St., Austin, 15000544

VIRGINIA

Accomack County

Tangier Island Historic District (Boundary Increase), S. of Tangier Island in Chesapeake Bay, Tangier, 15000545

Chesapeake Independent City

Cornland School, 2309 Benefit Rd., Chesapeake (Independent City), 15000546

Danville Independent City

Danville Historic District (Boundary Increase), Jefferson Ave., Chestnut Pl., Grove, Chambers, 100 blks. Ross & Holbrook Sts., Danville (Independent City), 15000547

Halifax County

Mountain Road Historic District (Boundary Increase), Mountain Rd., Academy St., Poplar Ln., Halifax, 15000548

Hopewell Independent City

Downtown Hopewell Historic District (Boundary Increase and Decrease), E. Broadway Ave., S. Main & E. Poythress Sts., Hopewell (Independent City), 15000549

Pittsylvania County

Chatham Southern Railway Depot, 340 Whitehead St., Chatham, 15000550

WISCONSIN

Green County

Chalet of the Golden Fleece, 618 2nd St., New Glarus, 15000551

Rock County

Courier Building, 513 Vernal Ave., Milton, 15000552

[FR Doc. 2015-19011 Filed 8-3-15; 8:45 am]

BILLING CODE 4312-51-P